DEPARTMENT OF HOMELAND SECURITY

Federal Emergency Management Agency

44 CFR Part 67

[Docket ID FEMA-2020-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at www.floodmaps.fema.gov/fhm/fmx_main.html.

SUPPLEMENTARY INFORMATION: The Federal Emergency Management Agency (FEMA) makes the final determinations listed below for the modified BFEs for each community listed. These modified elevations have been published in newspapers of local circulation and ninety (90) days have elapsed since that publication. The Deputy Associate Administrator for Insurance and Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. FEMA included flood hazard mapping data dissemination determinations as part of the NFIP Nationwide Programmatic Environmental Impact Statement, published on November 3, 2017, and completed in accordance with the Council on Environmental Quality's National Environmental Policy Act implementing regulations in 40 CFR 1500 through 1508 and therefore has determined that this action will not have a significant effect on the human environment.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

David I. Maurstad,
Deputy Associate Administrator for Insurance and Mitigation, Department of Homeland Security, Federal Emergency Management Agency.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding sources | Location of referenced elevation | * Elevation in feet (NGVD) + Elevation in feet (NAVD) # Depth in feet above ground ^ Elevation in meters (MSL) modified | Communities affected
King County, Washington and Incorporated Areas
Docket Nos.: FEMA-B-7748 and B-7765
Cedar River | Approximately at 149th Avenue SE | +101 | Unincorporated Areas of King County, City of Renton.
| Approximately 350 feet upstream of Landsburg Road SE | +528
Green River | Approximately at Fort Dent Park Road | +24 | Unincorporated Areas of King County, City of Auburn, City of Kent, City of Renton, City of Seatac, City of Tukwila.
| Approximately 0.48 miles downstream of SR 18 | +74
North Creek | Approximately 690 feet upstream of NE 195th Street, landward of east levee | +34 | City of Bothell, City of Woodinville.
| Approximately at SR 522, east of I-405, landward of east levee | +34
| Approximately 820 feet upstream of North Creek Parkway, landward of east levee | +42
North Creek | Approximately 100 feet upstream of N 195th Street, landward of west levee | +36 | City of Bothell.
| Approximately 820 feet upstream of North Creek Parkway, landward of west levee | +42
Patterson Creek | Approximately 600 feet upstream of SR 202, near confluence with Snoqualmie R | +86 | Unincorporated Areas of King County.
| Approximately .31 miles upstream of SR 202 past Patterson Creek Overflow | +160
Snoqualmie River | Approximately at the King County/Snohomish County boundary | +50 | Unincorporated Areas of King County, City of Carnation, City of Duvall, City of Snoqualmie.
| Approximately 0.5 miles downstream from Snoqualmie Dam | +125
Springbrook Creek | Approximately 0.44 miles downstream of SW 7th Street Bridge | +24 | Unincorporated Areas of King County, City of Renton, City of Tukwila.
| Approximately 250 feet downstream of the City of Renton/City of Kent boundary | +30
* National Geodetic Vertical Datum. + North American Vertical Datum. # Depth in feet above ground. ^ Mean Sea Level, rounded to the nearest 0.1 meter.
ADDRESSES
City of Auburn
Maps are made available for inspection at City Hall Annex, Planning & Development Department, Permit Center, 1 East Main Street, 2nd Floor, Auburn, WA 98001.
City of Bothell
Maps are made available for inspection at City Hall, 18415 101st Avenue Northeast, Bothell, WA 98011.
City of Carnation
Maps are available for inspection at City Hall, 4621 Tolt Avenue, Carnation, WA 98014.
City of Duvall
Maps are available for inspection at City Hall, 15535 Main Street Northeast, Duvall, WA 98019.
City of Kent
Maps are available for inspection at City Hall, 220 Fourth Avenue South, Kent, WA 98032.
City of Renton
Maps are available for inspection at City Hall, 1055 South Grady Way, Renton, WA 98057.
City of Seatac
Maps are available for inspection at City Hall, 4800 South 188th Street, Seatac, WA 98188.
City of Snoqualmie
Maps are available for inspection at City Hall, 38624 Southeast River Street, Snoqualmie, WA 98065.
City of Tukwila
Maps are available for inspection at Public Works Department, 6300 Southcenter Boulevard, Tukwila, WA 98188.
City of Woodinville
Maps are available for inspection at City Hall, 17301 133rd Avenue Northeast, Woodinville, WA 98072.
Unincorporated Areas of King County
Maps are available for inspection at Department of Natural Resources and Parks, Water and Land Resources Division, 201 South Jackson Street, Suite 600, Seattle, WA 98104.

[FR Doc. 2020-10102 Filed 6-5-20; 8:45 am]

BILLING CODE 9110-12-P